DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual-chance) Flood Elevations (BFEs) are finalized for the communities listed below. These modified BFEs will be used to calculate flood insurance premium rates for new buildings and their contents.

EFFECTIVE DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Mitigation Division, Emergency Preparedness and Response Directorate, FEMA, 500 C Street SW., Washington, DC 20472, (202) 646-2903.

SUPPLEMENTARY INFORMATION: FEMA makes the final determinations listed below of the modified BFEs for each community listed. These modified BFEs have been published in newspapers of local circulation and ninety (90) days have elapsed since that publication.

The Mitigation Division Director of the Emergency Preparedness and Response Directorate has resolved any appeals resulting from this notification.

The modified BFEs are not listed for each community in this notice. However, this rule includes the address of the Chief Executive Officer of the community where the modified BFEs determinations are available for inspection.

The modified BFEs are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa, (FEMA Docket No.: B-7444) | City of Phoenix, (03-09-0934P) | Dec. 18, 2003, Dec. 25, 2003, Arizona Business Gazette | The Honorable Skip Rimsza, Mayor, City of Phoenix, 200 West Washington Street, 11th Floor, Phoenix, Arizona 85003 | Mar. 25, 2004 | 040051
Maricopa, (FEMA Docket No.: B-7446) | City of Phoenix, (04-09-0654X) | Mar. 18, 2004, Mar. 25, 2004, Arizona Business Gazette | The Honorable Phil Gordon, Mayor, City of Phoenix, 200 West Washington Street, 11th Floor, Phoenix, Arizona 85003-1611 | Jun. 24, 2004 | 040051
Pima, (FEMA Docket No.: B-7444) | Town of Marana, (02-09-829P) (04-09-045X) | Jan. 15, 2004, Jan. 22, 2004, Daily Territorial | The Honorable Bobby Sutton, Jr., Mayor, Town of Marana, 13251 North Lon Adams Road, Marana, Arizona 85653 | Apr. 22, 2004 | 040118
Pima, (FEMA Docket No.: B-7446) | Town of Marana, (04-09-0750P) | Mar. 25, 2004, Apr. 1, 2004, Daily Territorial | The Honorable Bobby Sutton, Jr., Mayor, Town of Marana, 13251 North Lon Adams Road, Marana, Arizona 85653 | Apr. 22, 2004 | 040118
Pima, (FEMA Docket No.: B-7446) | Town of Marana, (03-09-0698P) | Mar. 25, 2004, Apr. 1, 2004, Daily Territorial | The Honorable Bobby Sutton, Jr., Mayor, Town of Marana, 13251 North Lon Adams Road, Marana, Arizona 85653 | Jul. 1, 2004 | 040118
Pima, (FEMA Docket No.: B-7444) | City of Tucson, (02-09-829P) (04-09-0465X) | Jan. 15, 2004, Jan. 22, 2004, Daily Territorial | The Honorable Bob Walkup, Mayor, City of Tucson, City Hall, 255 West Alameda Street, Tucson, Arizona 85701 | Apr. 22, 2004 | 040076
Pima, (FEMA Docket No.: B-7446) | City of Tucson, (03-09-1711P) | Apr. 8, 2004, Apr. 15, 2004, Daily Territorial | The Honorable Bob Walkup, Mayor, City of Tucson, City Hall, 255 West Alameda Street, Tucson, Arizona 85701 | Jul. 15, 2004 | 040076
Pima, (FEMA Docket No.: B-7444) | Unincorporated Areas, (02-09-829P) (04-09-0465X) | Jan. 15, 2004, Jan. 22, 2004, Daily Territorial | The Honorable Sharon Bronson, Chair, Pima County, Board of Supervisors, 1330 West Congress Street, 11th Floor, Tucson, Arizona 85701 | Apr. 22, 2004 | 040073
Pima, (FEMA Docket No.: B-7446) | Unincorporated Areas, (03-09-0698P), | Mar. 25, 2004, Apr. 1, 2004, Daily Territorial | The Honorable Sharon Bronson, Chair, Pima County, Board of Supervisors, 1330 West Congress Street, 11th Floor, Tucson, Arizona 85701 | Jul. 1, 2004 | 040073
Yuma, (FEMA Docket No.: B-7444) | Unincorporated Areas, (02-09-045P) | Dec. 16, 2003, Dec. 23, 2003, Yuma Daily Sun | The Honorable Lenore Lorona Stuart, Chairperson, Yuma County, Board of Supervisors, 108 South Main Street, Yuma, Arizona 85364 | Mar. 24, 2004 | 040099
Amador, (FEMA Docket No.: B-7444) | City of Sutter Creek, (03-09-0678P) | Oct. 8, 2003, Oct. 15, 2003, Ledger Dispatch | The Honorable W. Brent Parsons, Mayor, City of Sutter Creek, P.O. Box 1238, Sutter Creek, California 95685 | Sept. 19, 2003 | 060458
Contra Costa (FEMA Docket No.: B-7444) | Unincorporated Areas, (03-09-1147P) | Nov. 6, 2003, Nov. 13, 2003, Contra Costa Times | The Honorable Mark DeSaulnier, Chairman, Contra County, Board of Supervisors, 2425 Bisso Lane Suite 110, Concord, California 94520 | Oct. 29, 2003 | 060025
Humboldt (FEMA Docket No.: B-7446) | City of Arcata, (03-09-0824P) | Feb. 10, 2004, Feb. 17, 2004, Arcata Eye | The Honorable Robert Ornelas, Mayor, City of Arcata, 736 F Street, Arcata, California 94521 | May 18, 2004 | 060061
Los Angeles (FEMA Docket No.: B-7446) | City of Burbank, (02-09-944P) | Feb. 11, 2004, Feb. 18, 2004, Burbank Leader | The Honorable Stacey Murphy, Mayor, City of Burbank, P.O. Box 6459, Burbank, California 94521 | May 19, 2004 | 065018
Los Angeles (FEMA Docket No.: B-7446) | City of Los Angeles; (04-09-0102P) | Mar. 11, 2004, Mar. 18, 2004, Los Angeles Times | The Honorable James K. Hahn, Mayor, City of Los Angeles, 200 North Spring Street, Room 303, Los Angeles, California 90012 | Jun. 17, 2004 | 060137
Mono (FEMA Docket No.: B-7444) | Unincorporated Areas, (02-09-0445P) | Jan. 22, 2004, Jan. 29, 2004, Mammoth Times | The Honorable John Cecil, Chairman, Mono County, Board of Supervisors, P.O. Box 654, Bridgeport, California 93517 | Apr. 28, 2004 | 060194
Placer (FEMA Docket No.: B-7446) | Unincorporated Area, (03-09-1212P) | Feb. 4, 2004, Feb. 11, 2004, The Rocklin Placer Herald | The Honorable Rex Bloomfield, Chairman, Placer County, Board of Supervisors, 175 Fulweiler Avenue, Auburn, California 95603 | Jan. 8, 2004 | 060239
Riverside (FEMA Docket No.: B-7446) | City of Moreno Valley, (04-09-0122P) | Apr. 1, 2004, Apr. 8, 2004, Press—Enterprise | The Honorable Frank West, Mayor, City of Moreno Valley, 14177 Frederick Street, Moreno Valley, California 92552 | Jul. 8, 2004 | 065074
Riverside (FEMA Docket No.: B-7444) | City of Murrieta, (03-09-1620P) (04-09-0819X) | Jan. 22, 2004, Jan. 29, 2004, The California | The Honorable Jack Van Haaster, Mayor, City of Murrieta, 26442 Beckman Court, Murrieta, California 92562 | Apr. 29, 2004 | 060751
Riverside (FEMA Docket No.: B-7444) | City of Temecula, (03-09-0162P) | Oct. 29, 2003, Nov. 5, 2003, The Press Enterprise | The Honorable Jeff Stone, Mayor, City of Temecula, P.O. Box 9033, Temecula, California 92589-9033 | Feb. 4, 2004 | 060742
San Diego (FEMA Docket No.: B-7446) | City of Chula Vista, (03-09-0900P) | Mar. 5, 2004, Mar. 12, 2004, Chula Vista Star News | The Honorable Stephen C. Padilla, Mayor, City of Chula Vista, City Hall, 276 Fourth Avenue, Chula Vista, California 91910 | Jun. 11, 2004 | 065021
San Diego (FEMA Docket No.: B-7444) | City of Oceanside, (02-09-1057P) | Jan. 8, 2004, Jan. 15, 2004, North County Times | The Honorable Terry Johnson, Mayor, City of Oceanside, 300 North Coast Highway, Oceanside, California 92054 | Nov. 21, 2003 | 060294
San Diego (FEMA Docket No.: B-7446) | City of Oceanside, (04-09-0309P) | Apr. 1, 2004, Apr. 8, 2004, North County Times | The Honorable Terry Johnson, Mayor, City of Oceanside, 300 North Coast Highway, Oceanside, California 92054 | Jul. 8, 2004 | 060294
San Diego (FEMA Docket No.: B-7446) | City of San Diego, (04-09-0108P) | Apr. 8, 2004, Apr. 15, 2004, San Diego City Transcript | The Honorable Richard M. Murphy, Mayor, City of San Diego, 202 C Street, 11th Floor, San Diego, California 92101 | Jul. 15, 2004 | 060295
San Diego (FEMA Docket No.: B-7444) | Unincorporated Areas, (03-09-0999P) | Nov. 13, 2003, Nov. 20, 2003, The San Diego Union-Tribune | The Honorable Greg Cox, Chairman, San Diego County Board of Supervisors, 1600 Pacific Highway, Room 335, San Diego, California 92101 | Feb. 19, 2004 | 060284
San Diego (FEMA Docket No.: B-7446) | Unincorporated Areas, (03-09-1209P) | Apr. 8, 2004, Apr. 15, 2004, San Diego Union-Tribune | The Honorable Dianne Jacob, Chairwoman, San Diego County Board of Supervisors, 1600 Pacific Highway, San Diego, California 92101 | Jul. 15, 2004 | 060284
Ventura (FEMA Docket No.: B-7440) | City of Fillmore, (02-09-927P) | Jul. 31, 2003, Aug. 7, 2003, Fillmore Gazette | The Honorable Evaristo Barajas, Mayor, City of Fillmore, Fillmore City Hall, 250 Central Avenue, Fillmore, California 93015-1907 | Nov. 7, 2003 | 060415
Ventura (FEMA Docket No.: B-7444) | City of Simi Valley, (03-09-1657P) | Dec. 11, 2003, Dec. 18, 2003, Ventura County Star | The Honorable William Davis, Mayor, City of Simi Valley, 2929 Tapo Canyon Road, Simi Valley, California 93063-2199 | Nov. 18, 2003 | 060421
Ventura (FEMA Docket No.: B-7444) | City of Simi Valley, (03-09-1631P) | Jan. 1, 2004, Jan. 8, 2004, Ventura County Star | The Honorable William Davis, Mayor, City of Simi Valley, 2929 Tapo Canyon Road, Simi Valley, California 93063-2199 | Apr. 9, 2004 | 060421
Ventura (FEMA Docket No.: B-7446) | City of Simi Valley, (04-09-0234P) | Feb. 12, 2004, Feb. 19, 2004, Ventura County Star | The Honorable William Davis, Mayor, City of Simi Valley, 2929 Tapo Canyon Road, Simi Valley, California 93063-2199 | Jan. 30, 2004 | 060421
Ventura (FEMA Docket No.: B-7440) | Unincorporated Areas, (02-09-927P) | Jul. 31, 2004, Aug. 7, 2004, Fillmore Gazette | The Honorable Judy Mikels, Chair, Ventura County, Board of Supervisors, 800 South Victoria Avenue, Ventura, California 93009 | Nov. 7, 2003 | 060413
Colorado:
Adams, (FEMA Docket No.: B-7446) | City of Brighton, (03-08-0621P) | Feb. 4, 2004, Feb. 11, 2004, Brighton Standard Blade | The Honorable Jan Pawlowski, Mayor, City of Brighton, 22 South Fourth Avenue, Brighton, Colorado 80601 | May 12, 2004 | 080004
Adams (FEMA Docket No.: B-7446) | Unincorporated Areas, (03-08-0621P) | Feb. 4, 2004, Feb. 11, 2004, Brighton Standard Blade | The Honorable Elaine T. Valente, Chair, Adams County Board of Commissioners, 450 South Fourth Avenue, Brighton, Colorado 80601 | May 12, 2004 | 080001
Adams (FEMA Docket No.: B-7446) | Unincorporated Areas, (02-08-398P) | Feb. 6, 2004, Feb. 13, 2004, Eastern Colorado News | The Honorable Elaine T. Valente, Chair, Adams County Board of Commissioners, 450 South Fourth Avenue, Brighton, Colorado 80601 | May 14, 2004 | 080001
Arapahoe, (FEMA Docket No.: B-7446) | City of Littleton, (03-08-0691P) | Mar. 11, 2004, Mar. 18, 2004, Littleton Independent | The Honorable John Ostermiller, Mayor, City of Littleton, 2255 West Berry Avenue, Littleton, Colorado 80165 | Mar. 1, 2004 | 080017
Boulder, (FEMA Docket No.: B-7444) | City of Boulder, (03-08-0410P) | Jan. 8, 2004, Jan. 15, 2004, Boulder Daily Camera | The Honorable William R. Toor, Mayor, City of Boulder, 1777 Broadway, Boulder, Colorado 80306 | Apr. 15, 2004 | 080024
Douglas, (FEMA Docket No.: B-7446) | Town of Parker, (04-08-0033P) | Feb. 19, 2004, Feb. 26, 2004, Douglas County News-Press | The Honorable Gary Lasater, Mayor, Town of Parker, 20120 East Mainstreet, Parker, Colorado 80138 | May 27, 2004 | 080310
El Paso (FEMA Docket No.: B-7444) | Town of Monument, (03-08-0661P) | Jan. 7, 2004, Jan. 14, 2004, Tri-Lakes Tribune | The Honorable E. L. Konarski, Mayor, Town of Monument, P.O. Box 325, Monument, Colorado 80132 | Apr. 13, 2004 | 080064
El Paso (FEMA Docket No.: B-7444) | Unincorporated Areas, (03-08-0619P) | Dec. 17, 2003, Dec. 24, 2004, El Paso County News | The Honorable Chuck Brown, Chairman, El Paso County, Board of Commissioners, 27 East Vermijo Avenue, Colorado Springs, Colorado 80903-2208 | Mar. 24, 2004 | 080059
El Paso (FEMA Docket No.: B-7446) | Unincorporated Areas, (03-08-0406P) | Mar. 10, 2004, Mar. 17, 2004, El Paso County News | The Honorable Chuck Brown, Chairman, El Paso County, Board of Commissioners, 27 East Vermijo Avenue, Colorado Springs, Colorado 80903-2208 | Jun. 16, 2004 | 080059
El Paso (FEMA Docket No.: B-7446) | Unincorporated Areas, (03-08-0449P) | Mar. 17, 2004, Mar. 24, 2004, El Paso County News | The Honorable Chuck Brown, Chairman, El Paso County, Board of Commissioners, 27 East Vermijo Avenue, Colorado Springs, Colorado 80903-2208 | Jun. 23, 2004 | 080059
El Paso (FEMA Docket No.: B-7446) | Unincorporated Areas, (03-08-0617P) | Mar. 17, 2004, Mar. 24, 2004, El Paso County News | The Honorable Chuck Brown, Chairman, El Paso County, Board of Commissioners, 27 East Vermijo Avenue, Colorado Springs, Colorado 80903-2208 | Jun. 23, 2004 | 080059
Gilpin, (FEMA Docket No.: B-7444) | City of Black Hawk, (02-08-526P) | Oct. 10, 2003, Oct. 17, 2003, Weekly Register Call | The Honorable Kathryn Eccker, Mayor, City of Black Hawk, P.O. Box 17, Black Hawk, Colorado 80422 | September 15, 2003 | 080076
Jefferson, (FEMA Docket No.: B-7444) | City of Lakewood, (03-08-0597P) | Dec. 4, 2003, Dec. 11, 2003, The Lakewood Sentinel | The Honorable Steve Burkholder, Mayor, City of Lakewood, Lakewood Civic Center South, 480 South Allison Parkway/Lakewood, Colorado 80226 | Mar. 11, 2004 | 085075
Jefferson, (FEMA Docket No.: B-7446) | City of Lakewood, (03-08-0305P) | Mar. 25, 2004, Apr. 1, 2004, Lakewood Sentinal | The Honorable Steve Burkholder, Mayor, City of Lakewood, Lakewood Civic Center South, 480 South Allison Parkway, Lakewood, Colorado 80226 | Jul. 1, 2004 | 085075
Jefferson, (FEMA Docket No.: B-7446) | City of Unincorporated Areas, (03-08-0479P) | Feb. 25, 2004, Mar. 3, 2004, Evergreen Canyon Courier | The Honorable Michelle Lawrence, Chairperson, Jefferson County, Board of Commissioners, 100 Jefferson County Parkway, Golden, Colorado 80419-5550 | Jun. 2, 2004 | 080087
Jefferson, (FEMA Docket No.: B-7444) | City of Westminster, (03-08-0023P) | Jan. 8, 2004, Jan. 15, 2004 Westminster Window | The Honorable Ed Moss, Mayor, City of Westminster, 4800 West 92nd Avenue, Westminster, CO 80031 | Apr. 14, 2004 | 080008
Jefferson, (FEMA Docket No.: B-7446) | City of Westminster, (03-08-0520P) | Jan. 29, 2004, Feb. 5, 2004, Westminster Window | The Honorable Ed Moss, Mayor, City of Westminster, 4800 West 92nd Avenue, Westminster, CO 80031 | May 6, 2004 | 080008
Larimer, (FEMA Docket No.: B-7444) | City of Fort Collins, (03-08-0612P) | Dec. 11, 2003, Dec. 18, 2003, Fort Collins Coloradoan | The Honorable Ray Martinez, Mayor, City of Fort Collins, P.O. Box 580, Fort Collins, Colorado 80525 | Dec. 17, 2003 | 080102
Routt, (FEMA Docket No.: B-7444) | City of Steamboat Springs, (03-08-0036P) | Jan. 4, 2004, Jan. 11, 2004, Steamboat Pilot | The Honorable Kathy Connell, City Council President, City of Steamboat Springs, P.O. Box 775088, Steamboat Springs, Colorado 80477 | Apr. 12, 2004 | 080159
Hawaii:
Hawaii, (FEMA Docket No.: B-7446) | City of Hawaii County, (03-09-1531P) | Feb. 12, 2004, Feb. 19, 2004, Hawaii Tribune Herald | The Honorable Harry Kim, Mayor, Hawaii County, 25 Aupuni Street, Hilo, Hawaii 96720 | Jan. 20, 2004 | 155166
Hawaii: Maui, (FEMA Docket No.: B-7446) | City of Maui County, (03-09-0438P) | Mar. 25, 2004, Apr. 1, 2004, Maui News | The Honorable Alan M. Arawaka, Mayor, Maui County, 200 South High Street, Wailuku, Hawaii 96793-2155 | Jul. 1, 2004 | 150003
North Carolina: Guilford, (FEMA Docket No.: B-7444) | City of Greensboro, (03-04-063P) | Dec. 17, 2003, Dec. 24, 2003, News & Record | The Honorable Keith Holliday, Mayor, City of Greensboro, P.O. Box 3136, Greensboro, North Carolina 27402 | Mar. 24, 2004 | 375351
Nevada: Clark, (FEMA Docket No.: B-7444) | City of Henderson, (03-09-0270P) | Dec. 4, 2003, Dec. 11, 2003, Las Vegas Review Journal | The Honorable James B. Gibson, Mayor, City of Henderson, 240 South Water Street, Henderson, Nevada 89015 | Nov. 6, 2003 | 320005
Texas: Dallas, (FEMA Docket No.: B-7444) | City of Sachse, (03-06-2321P) | Jan. 15, 2004, Jan. 22, 2004, Dallas Morning News | The Honorable Hugh Cairns, Mayor, City of Sachse, 7310 Vista Valley Lane, Sachse, Texas 75048 | Apr. 14, 2004 | 480186
Utah:
Iron, (FEMA Docket No.: B-7444) | City of Cedar City, (03-08-0370P) | Nov. 13, 2003, Nov. 20, 2003, The Spectrum | The Honorable Gerald R. Sherratt, Mayor, City of Cedar City, P.O. Box 249, Cedar City, Utah 84720 | Feb. 19, 2004 | 490074
Sevier, (FEMA Docket No.: B-7446) | City of Salina, (04-08-0072P) | Feb. 25, 2004, Mar. 3, 2004, Richfield Reaper | The Honorable Marilyn S. Anderson, Mayor, City of Salina, P.O. Box 69, Salina, Utah 84654 | Jun. 2, 2004 | 490132
Washington:
King, (FEMA Docket No.: B-7444) | City of Bothell, (03-10-0047P) | Oct. 16, 2003, Oct. 23, 2003, Seattle Times | The Honorable Jeff Merrill, Mayor, City of Bothell, 18305 101st Avenue Northeast, Bothell, Washington 98011 | Jan. 22, 2004 | 530075
King, (FEMA Docket No.: B-7446) | City of Bellevue, (03-10-0399P) | Feb. 26, 2004, Mar. 4, 2004, King County Journal | The Honorable Connie Marshall, Mayor, City of Bellevue, P.O. Box 90012, Bellevue, Washington 98009-9012 | Jun. 3, 2004 | 530074
King,(FEMA Docket No.: B-7444) | City of Issaquah, (03-10-0308P) | Oct. 15, 2003, Oct. 22, 2003, Issaquah Press | The Honorable Ava Frisinger, Mayor, City of Issaquah, P.O. Box 1307, Issaquah, Washington 98027-1307 | Jan. 22, 2004 | 530079
Washington: Spokane,(FEMA Docket No.: B-7444) | City of Spokane, (02-10-545P) | Jan. 8, 2004, Jan. 15, 2004, Spokesman Review | The Honorable John Powers, Mayor, City of Spokane, Spokane City Hall, 808 West Spokane Falls Boulevard, Spokane, Washington 99201-3355 | Apr. 14, 2004 | 530183
Wyoming: Teton,(FEMA Docket No.: B-7444) | Teton County, (03-08-0507P) | Dec. 3, 2003, Dec. 10, 2003,Jackson Hole News | The Honorable Bill Paddleford, Chair, Teton County, Board of Commissioners, P.O. Box 3594, Jackson, Wyoming 83001 | Nov. 19, 2003 | 560094

(Catalog of Federal Domestic Assistance No. 83.100, “Flood Insurance.”)
Dated: August 10, 2004.
David I. Maurstad,
Acting Director, Mitigation Division, Emergency Preparedness and Response Directorate.

[FR Doc. 04-18686 Filed 8-13-04; 8:45 am]

BILLING CODE 9110-12-P